DEPARTMENT OF ENERGY

Federal Energy Regulatory Commission

[Docket No. RP02-209-001]

Southern Natural Gas Company; Notice of Compliance Filing

June 3, 2002.

Take notice that on May 29, 2002, Southern Natural Gas Company (Southern) tendered for filing as part of its FERC Gas Tariff, Seventh Revised Volume No. 1, the following tariff sheet to become effective May 1, 2002:

Substitute First Revised Sheet No. 101B

Southern states that the purpose of this filing is to comply with the Commission's order dated April 30, 2002 in the above-referenced docket. Such letter order generally approved Southern's tariff filing made to allow Southern to enter into prearranged transaction with shipper prior to holding an open season for available capacity to a net present value (NPV) of awarding available capacity. Such order required Southern to make a compliance filing (i) to clarify that it could not enter into a prearranged transaction for capacity during an open season for that capacity; and (ii) to post the initial asking rate, the agreed upon rate under the prearranged transaction and the price at which the capacity has been awarded to a prearranged shipper.

Southern has requested that these sheets be made effective as of May 1, 2002 consistent with the Commission's April 30 Order.

Southern states that copies of the filing will be served upon its shippers and interested state commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14426 Filed 6-7-02; 8:45 am]

BILLING CODE 6717-01-P